DEPARTMENT OF COMMERCE

National Oceanic and Atmospheric Administration

62nd Meeting of the NOAA Science Advisory Board

AGENCY: Office of Oceanic and Atmospheric Research (OAR), National Oceanic and Atmospheric Administration (NOAA), Department of Commerce (DOC).

ACTION: Notice of public meeting.

SUMMARY: This notice sets forth the schedule and proposed agenda of a meeting of the NOAA Science Advisory Board (SAB). The members will discuss issues outlined in the section on Matters to be considered.

DATES: The meeting will be held Tuesday, July 17, 2018 from 9:45 a.m. EDT to 5:00 p.m. EDT and on Wednesday, July 18, 2018 from 9 a.m. EDT to 12 p.m. EDT. These times and agenda topics described below are subject to change. For the latest agenda please refer to the SAB website: http://sab.noaa.gov/SABMeetings.aspx.

ADDRESSES: The meeting will be held at the Hugh Gregg Coastal Conservation Center, 93 Depot Road, Greenland, NH 03840. Members of the public may participate virtually by registering at: https://attendee.gotowebinar.com/register/8542038057269870337.

FOR FURTHER INFORMATION CONTACT: Dr. Cynthia Decker, Executive Director, SSMC3, Room 11230, 1315 East-West Hwy., Silver Spring, MD 20910; Phone Number: 301-734-1156; Email: Cynthia.Decker@noaa.gov; or visit the SAB website at http://sab.noaa.gov/SABMeetings.aspx.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

MATTERS to be CONSIDERED: The purpose of this meeting is to receive updates and information on elements of the SAB work plan. Meeting materials, including work products will be made available on the SAB website: http://sab.noaa.gov/SABMeetings.aspx.

STATUS: The meeting will be open to public participation with a 15-minute public comment period on July 17 from 4:45-5:00 p.m. EDT (check website to confirm time). The SAB expects that public statements presented at its meetings will not be repetitive of previously submitted verbal or written statements. In general, each individual or group making a verbal presentation will be limited to a total time of three (3) minute. Written comments for the meeting should be received in the SAB Executive Director's Office by July 9, 2018 to provide sufficient time for SAB review. Written comments received after July 9th will be distributed to the SAB, but may not be reviewed prior to the meeting date. Seating at the meeting will be available on a first-come, first served basis.

SPECIAL ACCOMMODATIONS: These meetings are physically accessible to people with disabilities. Requests for special accommodations may be directed no later than 12:00 p.m. on July 9, 2018, to Dr. Cynthia Decker, SAB Executive Director, SSMC3, Room 11230, 1315 East-West Highway, Silver Spring, MD 20910; Email: Cynthia.Decker@noaa.gov.

Dated: June 6, 2018.
David Holst,
Chief Financial Officer/Administrative Officer, Office of Oceanic and Atmospheric Research, National Oceanic and Atmospheric Administration.

[FR Doc. 2018-13140 Filed 6-18-18; 8:45 am]

BILLING CODE 3510-22-P